DEPARTMENT OF HEALTH AND HUMAN SERVICES

Request for Information—Long-Term Monitoring of Health Care System Resilience

AGENCY: Office of the Assistant Secretary for Health, Office of the Secretary, Department of Health and Human Services.

ACTION: Request for Information.

SUMMARY: The Office of the Assistant Secretary for Health (OASH) in the Department of Health and Human Services seeks to gain a more comprehensive understanding of how organizations, networks, non-federal government agencies, and other relevant stakeholders in the United States have operationally defined “resilience” in their respective components of the health system; including their use of data, analytic approaches and proven indicators. OASH also seeks to identify opportunities to strengthen the U.S. healthcare system, as a whole, through public-private partnerships in data sharing and comprehensive analytics. OASH welcomes any public feedback related to how these questions should be addressed and/or potential solutions. The set of questions is available in the SUPPLEMENTARY INFORMATION section below.

DATES: To be assured consideration, comments must be received at the email address provided below, no later than midnight Eastern Time (ET) on July 8, 2020.

ADDRESSES: Individuals are encouraged to submit responses electronically to OASHcomments@hhs.gov. Please indicate “RFI RESPONSE” in the subject line of your email. Submissions received after the deadline will not be reviewed. Responses to this notice are not offers and cannot be accepted by the federal government to form a binding contract or issue a grant. Respond concisely and in plain language. You may use any structure or layout that presents your information well. You may respond to some or all of our questions, and you can suggest other factors or relevant questions. You may also include links to online material or interactive presentations. Clearly mark any proprietary information, and place it in its own section or file. Your response will become government property, and we may publish some of its non-proprietary content.

FOR FURTHER INFORMATION CONTACT: Dr. Leith States, Chief Medical Officer, Office of the Assistant Secretary for Health (202) 260-2873.

SUPPLEMENTARY INFORMATION:

Background

On January 31st, the U.S. Department of Health and Human Services (HHS) declared a public health emergency due to the outbreak of the 2019 Novel Coronavirus, now known as COVID-19. To date, the federal government has engaged in intensive efforts to prevent and mitigate the transmission of COVID-19 within the United States. These efforts required unprecedented changes in the functioning of private businesses, personal lives, the provision of public services and healthcare. Early interventions focused primarily on the redirection of the provision of healthcare resources towards individuals with COVID-19 and mitigation strategies to prevent the spread of the virus, including markedly diminished access to health system services.

Anecdotal reports and experiences from the frontlines, and emerging data, indicate that the COVID-19 response has consequentially resulted in limited access to routine and emergency healthcare services in many, if not most, communities. In regions with significant burdens of COVID-19 cases, local health systems have faced challenges with surge capacity needed to treat COVID-19 patients. Furthermore, mitigation strategies to reduce the transmission of COVID-19 have altered the delivery of healthcare services across the board, with many organizations shifting to providing care via telehealth, reducing the scale or scope of their healthcare services or eliminating access, altogether. Also, human behaviors around accessing healthcare have been altered in the midst of recommendations for social isolation/distancing.

Response to a health crisis, such as the COVID-19 pandemic, necessitates a robust public health response and a highly resilient, adaptable health care delivery system that can meet the evolving needs of communities. Although there is not a common definition of “health system resilience” (encompassing the provision of direct clinical care, preventive medicine and public health activities), the most referenced definition defines it as “the capacity of health actors, institutions, and populations to prepare for and effectively respond to crises; maintain core functions when a crisis hits; and, informed by lessons learned during the crisis, reorganize if conditions require it.” ¹ Maintaining health system resilience, particularly during and following the COVID-19, is a critical concern in order to ensure the delivery of high-quality care, from prevention to high-acuity inpatient care, for all conditions.

¹ Available at: https://www.thelancet.com/action/showPdf?pii=S0140-6736%2815%2960755-3.

Scope and Assumptions

• The purpose of this Request for Information (RFI) is to gain a more comprehensive understanding of how organizations, networks, non-federal government agencies, and other relevant stakeholders in the United States have operationally defined “resilience” in their respective components of the health system; including their use of data, analytic approaches and proven indicators. These indicators and data sets should be able to quantify the impact of disturbances, such as the COVID-19 pandemic, on health care availability, access, timeliness, and quality.

• The RFI also seeks to identify opportunities to strengthen the U.S. healthcare system, as a whole, through public-private partnerships in data sharing and comprehensive analytics. The RFI seeks to identify organizations that would be interested in discussing the form and function of such collaborations.

• The definition of “health” system or services and/or “healthcare” system or services, for the purposes of this RFI, is in the broadest sense. We seek to understand resilience implications on the provision of health services in all dimensions.

Our Questions

Barrier and Opportunities for Health System Resilience

1. What have been the most significant barriers to assessing, monitoring, and strengthening health system resilience in the U.S.?

2. What policies and programs can be improved to mitigate the risk of COVID-19 and avoid negative impacts on patient outcomes?

3. What scientific advances are needed to assess and address vulnerabilities in the U.S. healthcare system during the COVID-19 response and in future disturbances to the healthcare system?

Key Indicators & Data Sources of Health System Resilience

1. What is your definition of health system resilience within the context of your organization? Does the definition of resilience need to be defined differently based on geographic region and/or the domain of healthcare being assessed?

2. What key indicators or data sets are being used within your organization to assess health system resilience?

3. What existing methods, data sources, and analytic approaches are being used to assess and monitor health system resilience in private healthcare systems?

4. What selected health conditions should be used as indicators of healthcare availability, access, timeliness, and quality, in terms of treatment and preventive services?

Public/Private Data Sources

1. What data sources does your organization use to assess the resilience of the health system? What demographic populations are covered by these data systems? Do these data systems capture urban-rural and other geographic differences?

2. How are you using these data sources to inform your public health response?

Public-Private Partnerships

1. Provide ideas of the form and function of a public-private partnership model to continually assess and monitor health system resilience and individual as well as population health outcomes?

2. What private and public sectors should HHS engage as part of such a collaborative effort?

HHS encourages all potentially interested parties—individuals, associations, governmental, non-governmental organizations, academic institutions, and private sector entities—to respond. To facilitate review of the responses, please reference the question category and number in your response.

Dated: June 2, 2020.
Paul Reed,
Deputy Assistant Secretary for Health, Medicine & Science, Office of the Assistant Secretary for Health.

[FR Doc. 2020-12238 Filed 6-4-20; 8:45 am]

BILLING CODE 4510-28-P